DEPARTMENT OF HOMELAND SECURITY

Federal Emergency Management Agency

[Docket ID FEMA-2017-0002; Internal Agency Docket No. FEMA-B-1762]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: November 2, 2017.
Roy E. Wright,
Deputy Associate Administrator for Insurance and Mitigation, Department of Homeland Security, Federal Emergency Management Agency.

State and county | Location and case No. | Chief executive officer of community | Community map repository | Online location of letter of map revision | Date of modification | Community No.
Alabama:
Greene | Unincorporated areas of Greene County (17-04-5766P). | The Honorable Tennyson Smith, Chairman, Greene County Board of Commissioners, P.O. Box 628, Eutaw, AL 35462. | Greene County, Engineering Department, 521 Prairie Avenue South, Eutaw, AL 35462. | https://msc.fema.gov/portal/advanceSearch. | Jan. 25, 2018 | 010091
Jefferson | Unincorporated areas of Jefferson County (17-04-7129X). | The Honorable James A. Stephens, Chairman, Jefferson County Board of Commissioners, 716 Richard Arrington, Jr. Boulevard North, Birmingham, AL 35203. | Jefferson County Land Development Department, 716 Richard Arrington, Jr. Boulevard North, Birmingham, AL 35203. | https://msc.fema.gov/portal/advanceSearch. | Feb. 12, 2018 | 010217
Colorado: Arapahoe | City of Aurora (17-08-0697P). | Mr. George Noe, Manager, City of Aurora, 15151 East Alameda Parkway, 5th Floor, Aurora, CO 80012. | Municipal Center, 15151 East Alameda Parkway, 3rd Floor, Aurora, CO 80012. | https://msc.fema.gov/portal/advanceSearch. | Feb. 2, 2018 | 080002
Connecticut:
Fairfield | Town of Westport (17-01-0033P). | The Honorable Jim Marpe, First Selectman, Town of Westport Board of Selectmen, 110 Myrtle Avenue, Room 310, Westport, CT 06880. | Planning and Zoning Department, 110 Myrtle Avenue, Room 203, Westport, CT 06880. | https://msc.fema.gov/portal/advanceSearch. | Jan. 8, 2018 | 090019
New Haven | City of Meriden (17-01-0418P). | Mr. Guy Scaife, Manager, City of Meriden, 142 East Main Street, Meriden, CT 06450. | Department of Public Works, Engineering Division, 142 East Main Street, Meriden, CT 06450. | https://msc.fema.gov/portal/advanceSearch. | Jan. 3, 2018 | 090081
Florida:
Charlotte | Unincorporated areas of Charlotte County (17-04-4506P). | The Honorable Bill Truex, Chairman, Charlotte County Board of Commissioners, 18500 Murdock Circle, Suite 536, Port Charlotte, FL 33948. | Charlotte County Community Development Department, 18400 Murdock Circle, Port Charlotte, FL 33948. | https://msc.fema.gov/portal/advanceSearch. | Dec. 29, 2017 | 120061
Duval | City of Jacksonville (17-04-1816P). | The Honorable Lenny Curry, Mayor, City of Jacksonville, 117 West Duval Street, Suite 400, Jacksonville, FL 32202. | Development Services Division, 214 North Hogan Street, Suite 2100, Jacksonville, FL 32202. | https://msc.fema.gov/portal/advanceSearch. | Jan. 30, 2018 | 120077
Lee | City of Sanibel (17-04-4409P). | The Honorable Kevin Ruane, Mayor, City of Sanibel, 800 Dunlop Road, Sanibel, FL 33957. | Planning and Code Enforcement Department, 800 Dunlop Road, Sanibel, FL 33957. | https://msc.fema.gov/portal/advanceSearch. | Jan. 17, 2018 | 120402
Monroe | Unincorporated areas of Monroe County (17-04-5313P). | The Honorable George Neugent, Mayor, Monroe County Board of Commissioners, 25 Ships Way, Big Pine Key, FL 33043. | Monroe County Building Department, 2798 Overseas Highway, Suite 300, Marathon, FL 33040. | https://msc.fema.gov/portal/advanceSearch. | Jan. 2, 2018 | 125129
Monroe | Unincorporated areas of Monroe County (17-04-5430P). | The Honorable George Neugent, Mayor, Monroe County Board of Commissioners, 25 Ships Way, Big Pine Key, FL 33043. | Monroe County Building Department, 2798 Overseas Highway, Suite 300, Marathon, FL 33040. | https://msc.fema.gov/portal/advanceSearch. | Jan. 4, 2018 | 125129
Monroe | Unincorporated areas of Monroe County (17-04-5774P). | The Honorable George Neugent, Mayor, Monroe County Board of Commissioners, 25 Ships Way, Big Pine Key, FL 33043. | Monroe County Building Department, 2798 Overseas Highway, Suite 300, Marathon, FL 33040. | https://msc.fema.gov/portal/advanceSearch. | Jan. 5, 2018 | 125129
Palm Beach | Village of Tequesta (17-04-2100P). | The Honorable Abby Brennan, Mayor, Village of Tequesta, 345 Tequesta Drive, Tequesta, FL 33469. | Building Department, 345 Tequesta Drive, Tequesta, FL 33469. | https://msc.fema.gov/portal/advanceSearch. | Jan. 11, 2018 | 120228
Pinellas | Town of Redington Shores (17-04-6065P). | The Honorable Bert Adams, Mayor, Town of Redington Shores, 17425 Gulf Boulevard, Redington Shores, FL 33708. | Building Department, 17425 Gulf Boulevard, Redington Shores, FL 33708. | https://msc.fema.gov/portal/advanceSearch. | Feb. 5, 2018 | 125141
Polk | Unincorporated areas of Polk County (17-04-0850P). | The Honorable Melony M. Bell, Chair, Polk County Board of Commissioners, P.O. Box 9005, Drawer BC01, Bartow, FL 33831. | Polk County Land Development Division, 330 West Church Street, Bartow, FL 33830. | https://msc.fema.gov/portal/advanceSearch. | Jan. 4, 2018 | 120261
Sarasota | City of Sarasota (17-04-2771P). | The Honorable Shelli Freeland Eddie, Mayor, City of Sarasota, 1565 1st Street, Room 101, Sarasota, FL 34236. | Neighborhood and Development Services Department, 1565 1st Street, Sarasota, FL 34236. | https://msc.fema.gov/portal/advanceSearch. | Jan. 25, 2018 | 125150
Sarasota | City of Sarasota (17-04-5953P). | The Honorable Shelli Freeland Eddie, Mayor, City of Sarasota, 1565 1st Street, Room 101, Sarasota, FL 34236. | Neighborhood and Development Services Department, 1565 1st Street, Sarasota, FL 34236. | https://msc.fema.gov/portal/advanceSearch. | Jan. 24, 2018 | 125150
Maryland: Frederick | Town of New Market (17-03-0470P). | The Honorable Winslow F. Burhans, III, Mayor, Town of New Market, P.O. Box 27, New Market, MD 21774. | Town Hall, 39 West Main Street, New Market, MD 21774. | https://msc.fema.gov/portal/advanceSearch. | Mar. 14, 2018 | 240088
Massachusetts:
Barnstable | Town of Mashpee (17-01-1864P). | The Honorable Thomas F. O'Hara, Chairman, Town of Mashpee Board of Selectmen, 16 Great Neck Road North, Mashpee, MA 02649. | Building Department, 16 Great Neck Road North, Mashpee, MA 02649. | https://msc.fema.gov/portal/advanceSearch. | Feb. 5, 2018 | 250009
Bristol | Town of Dartmouth (17-01-1797P). | The Honorable Frank S. Gracie III, Chairman, Town of Dartmouth Board of Selectmen, 400 Slocum Road, Dartmouth, MA 02747. | Building Department, 400 Slocum Road, Dartmouth, MA 02747. | https://msc.fema.gov/portal/advanceSearch. | Jan. 25, 2018 | 250051
Mississippi:
DeSoto | City of Hernando (17-04-4941P). | The Honorable Tom Ferguson, Mayor, City of Hernando, 475 West Commerce Street, Hernando, MS 38632. | Planning Department, 475 West Commerce Street, Hernando, MS 38632. | https://msc.fema.gov/portal/advanceSearch. | Jan. 24, 2018 | 280292
DeSoto | Unincorporated areas of DeSoto County (17-04-5325P). | The Honorable Michael Lee, President, DeSoto County Board of Supervisors, 365 Losher Street, Suite 300, Hernando, MS 38632. | DeSoto County Administration Building, 365 Losher Street, Suite 200, Hernando, MS 38632. | https://msc.fema.gov/portal/advanceSearch. | Jan. 26, 2018 | 280050
Montana: Lewis and Clark | Unincorporated areas of Lewis and Clark County (17-08-0367P). | The Honorable Susan Good Geise, Chair, Lewis and Clark County Board of Commissioners, 316 North Park Avenue, Room 345, Helena, MT 59623. | Lewis and Clark County Law Enforcement Center, 221 Breckenridge Avenue, Helena, MT 59601. | https://msc.fema.gov/portal/advanceSearch. | Jan. 26, 2018 | 300038
New Mexico: Bernalillo | City of Albuquerque (17-06-1859P). | The Honorable Richard J. Berry, Mayor, City of Albuquerque, P.O. Box 1293, Albuquerque, NM 87103. | Development Review Services Division, 600 2nd Street Northwest, Albuquerque, NM 87102. | https://msc.fema.gov/portal/advanceSearch. | Jan. 10, 2018 | 350002
North Carolina: Wake | City of Raleigh (16-04-2708P). | The Honorable Nancy McFarlane, Mayor, City of Raleigh, P.O. Box 590, Raleigh, NC 27602. | Stormwater Management Division, 1 Exchange Plaza, Suite 304, Raleigh, NC 27601. | https://msc.fema.gov/portal/advanceSearch. | Jan. 29, 2018 | 370243
North Dakota: Cass | City of Casselton (17-08-0564P). | The Honorable Lee Anderson, Mayor, City of Casselton, P.O. Box 548, Casselton, ND 58012. | Auditor's Office, 702 1st Street North, Casselton, ND 58012. | https://msc.fema.gov/portal/advanceSearch. | Jan. 25, 2018 | 380020
Oklahoma: Oklahoma | City of Oklahoma City (17-06-2212P). | The Honorable Mick Cornett, Mayor, City of Oklahoma City, 200 North Walker Avenue, 3rd Floor, Oklahoma City, OK 73102. | Department of Public Works, 420 West Main Street, Suite 700, Oklahoma City, OK 73102. | https://msc.fema.gov/portal/advanceSearch. | Feb. 5, 2018 | 405378
Pennsylvania: Lackawanna | City of Scranton (17-03-0447P). | The Honorable William L. Courtright, Mayor, City of Scranton, 340 North Washington Avenue, Scranton, PA 18503. | City Hall, 340 North Washington Avenue, Scranton, PA 18503. | https://msc.fema.gov/portal/advanceSearch. | Feb. 7, 2018 | 420538
South Carolina:
Horry | City of North Myrtle Beach (17-04-2716P). | The Honorable Marilyn Hatley, Mayor, City of North Myrtle Beach, 1018 2nd Avenue South, North Myrtle Beach, SC 29582. | Planning and Development Department, 1018 2nd Avenue South, North Myrtle Beach, SC 29582. | https://msc.fema.gov/portal/advanceSearch. | Jan. 18, 2018 | 450110
Richland | City of Forest Acres (17-04-4597P). | The Honorable Frank Brunson, Mayor, City of Forest Acres, 5209 North Trenholm Road, Columbia, SC 29206. | City Hall, 5209 North Trenholm Road, Columbia, SC 29206. | https://msc.fema.gov/portal/advanceSearch. | Jan. 23, 2018 | 450174
Richland | Town of Arcadia Lakes (17-04-4597P). | The Honorable Mark Huguley, Mayor, Town of Arcadia Lakes, 6740 North Trenholm Road, Columbia, SC 29206. | Town Hall, 6911 North Trenholm Road, Suite 2, Columbia, SC 29206. | https://msc.fema.gov/portal/advanceSearch. | Jan. 23, 2018 | 450171
Richland | Unincorporated areas of Richland County (17-04-4597P). | The Honorable Joyce Dickerson, Chair, Richland County Council, 2020 Hampton Street, Columbia, SC 29204. | Richland County Development Services Department, 2020 Hampton Street, Columbia, SC 29204. | https://msc.fema.gov/portal/advanceSearch. | Jan. 23, 2018 | 450170
South Dakota: Meade | City of Sturgis (17-08-0491P). | Mr. Daniel Ainslie, Manager, City of Sturgis, 1040 Harley-Davidson Way, Sturgis, SD 57785. | Engineering Department, 1040 Harley-Davidson Way, Sturgis, SD 57785. | https://msc.fema.gov/portal/advanceSearch. | Jan. 25, 2018 | 460055
Texas:
Bexar | City of San Antonio (17-06-3073P). | The Honorable Ron Nirenberg, Mayor, City of San Antonio, P.O. Box 839966, San Antonio, TX 78283. | Transportation and Capital Improvements Department, Storm Water Division, 1901 South Alamo Street, 2nd Floor, San Antonio, TX 78204. | https://msc.fema.gov/portal/advanceSearch. | Jan. 5, 2018 | 480045
Burnet | Unincorporated areas of Burnet County (17-06-3660X). | The Honorable James Oakley, Burnet County Judge, 220 South Pierce Street, Burnet, TX 78611. | Burnet County Environmental Services Department, 133 East Jackson Street, Room 107, Burnet, TX 78611. | https://msc.fema.gov/portal/advanceSearch. | Jan. 25, 2018 | 481209
Collin | Town of Prosper (17-06-1400P). | The Honorable Ray Smith, Mayor, Town of Prosper, P.O. Box 307, Prosper, TX 75078. | Engineering Services Department, 407 East 1st Street, Prosper, TX 75078. | https://msc.fema.gov/portal/advanceSearch. | Jan. 16, 2018 | 480141
Collin | Town of Prosper (17-06-1828P). | The Honorable Ray Smith, Mayor, Town of Prosper, P.O. Box 307, Prosper, TX 75078 | Engineering Services Department, 407 East 1st Street, Prosper, TX 75078. | https://msc.fema.gov/portal/advanceSearch. | Jan. 18, 2018 | 480141
Collin | City of Wylie (17-06-1285P). | The Honorable Eric Hogue, Mayor, City of Wylie, 300 Country Club Road, Building 100, Wylie, TX 75098. | City Hall, 300 Country Club Road, Building 100, Wylie, TX 75098. | https://msc.fema.gov/portal/advanceSearch. | Jan. 4, 2018 | 480759
Collin | Unincorporated areas of Collin County (17-06-1140P). | The Honorable Keith Self, Collin County Judge, 2300 Bloomdale Road, Suite 4192, McKinney, TX 75071. | Collin County Engineering Department, 4690 Community Avenue, Suite 200, McKinney, TX 75071. | https://msc.fema.gov/portal/advanceSearch. | Dec. 11, 2017 | 480130
Collin and Denton | City of Celina (17-06-1400P). | The Honorable Sean Terry, Mayor, City of Celina, 142 North Ohio Street, Celina, TX 75009. | City Hall, 142 North Ohio Street, Celina, TX 75009. | https://msc.fema.gov/portal/advanceSearch. | Jan. 16, 2018 | 480133
Dallas | City of Dallas (17-06-1022P). | The Honorable Michael Rawlings, Mayor, City of Dallas, 1500 Marilla Street, Suite 5EN, Dallas, TX 75201. | Engineering Department, 320 East Jefferson Boulevard, Room 200, Dallas, TX 75201. | https://msc.fema.gov/portal/advanceSearch. | Dec. 4, 2017 | 480171
Dallas | City of Garland (17-06-0906P). | The Honorable Douglas Athas, Mayor, City of Garland, 200 North 5th Street, Garland, TX 75040. | Municipal Building, 800 Main Street, Garland, TX 75040. | https://msc.fema.gov/portal/advanceSearch. | Dec. 18, 2017 | 485471
Dallas | City of Sachse (17-06-0906P). | The Honorable Mike Felix, Mayor, City of Sachse, 3815 Sachse Road, Building B, Sachse, TX 75048. | Public Works Department, 3815 Sachse Road, Building B, Sachse, TX 75048. | https://msc.fema.gov/portal/advanceSearch. | Dec. 18, 2017 | 480186
El Paso | Unincorporated areas of El Paso County (17-06-1021P). | The Honorable Veronica Escobar, El Paso County Judge, 500 East San Antonio Street, Suite 301, El Paso, TX 79901. | El Paso County Public Works Department, 800 East Overland Avenue, Suite 407, El Paso, TX 79901. | https://msc.fema.gov/portal/advanceSearch. | Jan. 22, 2018 | 480212
Galveston | City of Galveston (17-06-2017P). | The Honorable Jim Yarbrough, Mayor, City of Galveston, P.O. Box 779, Galveston, TX 77553. | Building Department, 823 Rosenberg Street, Galveston, TX 77553. | https://msc.fema.gov/portal/advanceSearch. | Feb. 6, 2018 | 485469
Kendall | City of Boerne (17-06-1075P). | Mr. Ronald Bowman, Manager, City of Boerne, 402 East Blanco Road, Boerne, TX 78006. | Code Enforcement Division, 402 East Blanco Road, Boerne, TX 78006. | https://msc.fema.gov/portal/advanceSearch. | Dec. 26, 2017 | 480418
Kendall | Unincorporated areas of Kendall County (17-06-1075P). | The Honorable Darrel L. Lux, Kendall County Judge, 201 East San Antonio Avenue, Suite 122, Boerne, TX 78006. | Kendall County Engineering Department, 201 East San Antonio Avenue, Suite 101, Boerne, TX 78006. | https://msc.fema.gov/portal/advanceSearch. | Dec. 26, 2017 | 480417
Tarrant | City of Fort Worth (17-06-2042P). | The Honorable Betsy Price, Mayor, City of Fort Worth, 200 Texas Street, Fort Worth, TX 76102. | Transportation and Public Works Department, 200 Texas Street, Fort Worth, TX 76102. | https://msc.fema.gov/portal/advanceSearch. | Jan. 4, 2018 | 480596
Tarrant | City of Fort Worth (17-06-2839P). | The Honorable Betsy Price, Mayor, City of Fort Worth, 200 Texas Street, Fort Worth, TX 76102. | Transportation and Public Works Department, 200 Texas Street, Fort Worth, TX 76102. | https://msc.fema.gov/portal/advanceSearch. | Jan. 29, 2018 | 480596
Tarrant | City of Grand Prairie (17-06-2864P). | The Honorable Ron Jensen, Mayor, City of Grand Prairie, P.O. Box 534045, Grand Prairie, TX 75053. | Development Center, 206 West Church Street, Grand Prairie, TX 75050. | https://msc.fema.gov/portal/advanceSearch. | Jan. 25, 2018 | 485472
Tarrant | City of Saginaw (17-06-1745P). | The Honorable Todd Flippo, Mayor, City of Saginaw, 333 West McLeroy Boulevard, Saginaw, TX 76179. | City Hall, 333 West McLeroy Boulevard, Saginaw, TX 76179. | https://msc.fema.gov/portal/advanceSearch. | Jan. 25, 2018 | 480610
Williamson | Unincorporated areas of Williamson County (17-06-3660X). | The Honorable Dan A. Gattis, Williamson County Judge, 710 South Main Street, Suite 101, Georgetown, TX 78626. | Williamson County Department of Infrastructure, 3151 Southeast Inner Loop, Suite B, Georgetown, TX 78626. | https://msc.fema.gov/portal/advanceSearch. | Jan. 25, 2018 | 481079

[FR Doc. 2017-26331 Filed 12-6-17; 8:45 am]

BILLING CODE 9110-12-P